NUCLEAR REGULATORY COMMISSION

[Docket Nos. 50-498 and 50-499]

STP Nuclear Operating Company, et al.; South Texas Project, Units 1 and 2; Notice of Withdrawal of Application Regarding Proposed Corporate Restructuring

The U.S. Nuclear Regulatory Commission (the Commission) has granted the request of STP Nuclear Operating Company (the licensee) to withdraw the September 29, 2003, application for an order under section 50.80 of Title 10 of the Code of Federal Regulations (10 CFR) approving the indirect transfer of Facility Operating Licenses Nos. NPF-76 and NPF-80 for South Texas Project (STP), Units 1 and 2, respectively, to the extent held by Texas Genco, LP (Texas Genco). STP, Units 1 and 2, are located in Matagorda County, Texas.

The Commission had previously issued a Notice of Consideration of Approval of Application and Opportunity for a Hearing in the Federal Register on November 5, 2003 (68 FR 62641). However, by letter dated January 29, 2004, the licensee withdrew the proposed change.

For further details with respect to this action, see the application for amendment dated September 29, 2003, and the licensee's withdrawal letter dated January 29, 2004, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the Internet at the NRC Web site, http://www.nrc.gov/reading-rm/adams/html. Persons who do not have access to ADAMS or who encounter problems in accessing the documents located in ADAMS, should contact the NRC PDR Reference staff by telephone at 1-800-397-4209, or 301-415-4737 or by email to pdr@nrc.gov.

Dated at Rockville, Maryland, this 13th day of February, 2004.
For the Nuclear Regulatory Commission.
William D. Reckley,
Acting Chief, Section 1, Project Directorate IV, Division of Licensing Project Management, Office of Nuclear Reactor Regulation.

[FR Doc. E4-431 Filed 2-27-04; 8:45 am]

BILLING CODE 7590-01-P